DEPARTMENT OF DEFENSE

Department of the Navy

Notice of Intent To Prepare an Environmental Impact Statement for basing the U.S. Marine Corps Joint Strike Fighter F-35B on the West Coast

AGENCY: Department of the Navy, DoD.

ACTION: Notice.

SUMMARY: Pursuant to Section (102)(2)(c) of the National Environmental Policy Act (NEPA) of 1969, as implemented by the Council on Environmental Quality Regulations (40 Code of Federal Regulations [CFR] Parts 1500-1508), the Department of the Navy NEPA regulations (32 CFR Part 775), and Marine Corps NEPA directives (Marine Corps Order P5090.2A, change 1), the Department of the Navy intends to prepare an Environmental Impact Statement (EIS) and conduct public scoping meetings for the proposed basing and operation of 12 Joint Strike Fighter (JSF) F-35B squadrons at Marine Corps Air Station (MCAS) Miramar, in San Diego, California and MCAS Yuma in Yuma, Arizona.

The Department of the Navy is initiating the public scoping process to identify community concerns and local issues that should be addressed in the EIS. Federal, state and local agencies and interested parties are encouraged to provide written comments to identify specific issue or topics of environmental concern that should be addressed in the EIS. The Department of the Navy will consider these comments in determining the scope of the EIS.

DATES: Public scoping open houses will be held from 5 p.m. to 9 p.m. on the dates indicated below, at the following locations:

(1) February 3, 2009, Miramar, Mira Mesa Branch Library, 8405 New Salem St., San Diego, CA.

(2) February 4, 2009, Gila Ridge High School, 7151 E 24th St., Yuma, AZ.

Federal, state, and local agencies, and interested parties are encouraged to attend any of the open house scoping meetings. At these open houses, proposal-related displays and material will be available for public review; Marine Corps and Navy staff will be present to address questions; and the public will have an opportunity to submit written comments on environmental concerns that should be addressed in the EIS.

ADDRESSES: All are encouraged to provide written comments on the proposed action and alternatives at any public scoping open houses and anytime during the scoping comment period, which ends February TBD, 2009. There are three ways to submit written comments: (1) By attending one of the public scoping open houses, (2) by e-mail using the project public Web site at http://www.usmcJSFwest.com or (3) by mail. All written comments on the scope of the EIS should be submitted and postmarked no later than February TBD, 2009. Comments submitted by mail should be sent to: JSF West Coast EIS Project Manager, NAVFAC SOUTHWEST, 1220 Pacific Hwy, San Diego, CA 93132.

FOR FURTHER INFORMATION CONTACT: F-35B West Coast EIS Project Manager at (619) 532-4742. Please submit requests for special assistance, sign language interpretation for the hearing impaired, or other auxiliary aids needed at the public meeting to the F-35B West Coast EIS Project Manager by January 6, 2009.

SUPPLEMENTARY INFORMATION: The Marine Corps variant of the JSF, the F-35B, is a short take-off/vertical landing (STOVL), multi-role fighter aircraft whose primary emphasis is air-to-ground combat. The aircraft is designed to replace existing fleets of F-18 A/C/D Hornets (strike fighter) and AV-8B Harriers (attack). It is also intended to adopt the electronic warfare mission of the EA-6B Prowler aircraft. The F-35B West Coast basing proposal would take approximately 12 years to implement and would begin in 2012. The proposal would base up to 182 aircraft (i.e., 10 active-duty and 1 reserve squadron of up to 16 aircraft each and 1 OT& E squadron with 6 aircraft) at MCAS Miramar and MCAS Yuma. Facility construction and modifications would occur prior to and continue throughout F-35B squadron arrivals; the F-35B would operate within existing airspace and at training ranges currently used by Marine Corps Hornet and Harrier aircraft.

Proposed Action

The proposed action would base and operate a total of 12 F-35B (the Marine Corps variant of the JSF) squadrons at MCAS Miramar and MCAS Yuma. The decision would include the basing of 10 active-duty squadrons, 1 Reserve squadron, and 1 Operational Testing and Evaluation (OT&E) squadron. The F-35B is a next generation, stealth, supersonic, multi-role fighter aircraft that will replace aging Marine Corps fleets of F-18 A/C/D Hornets and AV-8B Harriers in the 3rd and 4th Marine Air Wings.

Purpose and Need

To meet any crisis or conflict that may arise both now and into the future, Marine Corps Aviation must be manned, trained, and equipped to conduct world-wide air combat operations. For this reason, technological superiority in its air fleet is an essential requirement. The purpose of the proposed action, therefore, is to provide state-of-the art F-35B aircraft to Marine Corps fleets by replacing aging aircraft inventories. The basing action would provide both the facilities and functions to support and maintain these new aircraft as well as the airfields, airspace, and ranges to train air crews in these next-generation aircraft. The EIS may develop the need for new missions on the Barry M. Goldwater range and/or identify the need and location for additional special use airspace to support JSF training functions.

Preliminary Alternatives

The Marine Corps developed a range of reasonable basing alternatives in a three-tiered alternatives development process. The process applied the purpose and need to identify potential sites that could maximize JSF integration into existing Marine Air Ground Task Force organizations, maximize utilization of existing infrastructure and provide efficient use of existing ranges. The alternative development process identified five preliminary basing alternatives. These alternatives distribute differing combinations of the F-35B active-duty, reserve, and OT&E squadrons between MCAS Miramar and MCAS Yuma. The basing alternatives include:

• No-action alternative, where F-35B aircraft would not replace F-18A/C/D and AV-8B squadrons at MCAS Miramar and MCAS Yuma. The no-action alternative, while required by NEPA in order to measure potential impacts, would not meet the purpose and need of the proposed action and would prevent the Marine Corps from fulfilling its assigned combat missions.

• Alternative 1 would base six squadrons at MCAS Miramar, and five squadrons and one OT&E squadron at MCAS Yuma.

• Alternative 2 would base four squadrons at MCAS Miramar, and seven squadrons and one OT&E squadron at MCAS Yuma.

• Alternative 3 would base seven squadrons and one OT&E squadron at MCAS Miramar, and four squadrons at MCAS Yuma.

• Alternative 4 would base one squadron and one OT&E squadron at MCAS Miramar, and ten squadrons at MCAS Yuma.

• Alternative 5 would base ten squadrons at MCAS Miramar, and one squadron and one OT&E squadron at MCAS Yuma.

Environmental Issues and Resources To Be Examined

The EIS will evaluate the potential environmental effects associated with each of the above alternatives. Issues to be addressed include, but are not limited to, biological resources, historic and archaeological resources, geology and soils, hydrology, water quality, air quality, noise, safety, hazardous materials and waste, visual resources, socioeconomics, and environmental justice. Relevant and reasonable measures that could avoid or mitigate environmental effects will also be analyzed.

Additionally, the Marine Corps will undertake any consultations required by the Endangered Species Act, Clean Water Act, National Historic Preservation Act, and any other applicable law or regulation.

EIS Schedule

This Notice of Intent is the first phase of the EIS process and announces the beginning of the public comment period to identify community concerns and local issues that should be addressed in the EIS. The next phase occurs when the Department of the Navy publishes a Notice of Availability (NOA) in the Federal Register and local media to publicly release the Draft EIS. A 45-day public comment period for the Draft EIS will start upon publication of the NOA in the Federal Register. The Department of the Navy will consider and respond to all public comments received on the Draft EIS when preparing for the Final EIS. The Department of the Navy intends to issue the Final EIS no later than October 2010, at which time an NOA will be published in the Federal Register and local media. A 30-day waiting period will start upon publication of the NOA for the Final EIS in the Federal Register. At the end of this period, the Assistant Secretary of the Navy will issue a Record of Decision.

Dated: January 12, 2009.
A.M. Vallandingham,
Lieutenant Commander, Judge Advocate Generals Corps, U.S. Navy, Federal Register Liaison Officer.

[FR Doc. E9-835 Filed 1-14-09; 8:45 am]

BILLING CODE 3810-FF-P